DEPARTMENT OF VETERANS AFFAIRS

Advisory Committee on Homeless Veterans, Notice of Meeting

The Department of Veterans Affairs (VA) gives notice under Public Law 92-463 (Federal Advisory Committee Act) that a meeting of the Advisory Committee on Homeless Veterans will be held on Tuesday, October 21, 2003, and Wednesday, October 22, 2003, at the La Mansion del Rio Hotel, 112 College Street, El Colegio Room, San Antonio, TX 78205. On October 20, from 12 Noon until 3:30 p.m., the Committee will also conduct site visits at various San Antonio locations with programs that provide assistance to homeless persons. Those site visits will be followed with a town hall forum from 4 p.m. until 6 p.m., at the American GI Forum Service Center, 611 N. Flores Street, San Antonio, TX. On 21-22, the meeting will convene at 8:30 a.m. and end at 4:30 p.m. daily in the El Colegio Room. The meeting and town hall forum are open to the public. Members of the public must sign up at the town hall forum in order to speak at that event.

The purpose of the Committee is to advise the Secretary of Veterans Affairs on the effectiveness of the policies, organizational structures, and services of the Department in assisting homeless veterans. The Committee shall assemble and review information relating to the needs of homeless veterans and provide on-going advice on the most appropriate means of providing assistance to homeless veterans. The Committee will make recommendations to the Secretary regarding such activities.

On October 20, the Committee will visit program sites in the San Antonio area that provide housing and supportive services to homeless veterans. The town hall forum will be held to hear comments and concerns from current and formerly homeless veterans, service providers, faith-based organizations and tribal governments. On October 21-22, the Committee will review the recommendations submitted to the Secretary in its first annual report (March 2003). VA officials and others responsible for implementing those recommendations will make presentations at the meeting. Presenters will include senior managers at the Veterans Benefits Administration, the Veterans Health Administration, as well as the Departments of Health and Human Services, Housing and Urban Development, Labor and Defense.

Those wishing to attend the meeting should contact Mr. Pete Dougherty, Department of Veterans Affairs, at (202) 273-5764. No time will be allocated for receiving oral presentations from the public during the meeting on October 21-22. However, the Committee will accept written comments from interested parties on issues affecting homeless veterans. Such comments should be referred to the Committee at the following address: Advisory Committee on Homeless Veterans, Homeless Veterans Programs Office (075D), U.S. Department of Veterans Affairs, 810 Vermont Avenue, NW., Washington, DC 20420.

Dated: September 26, 2003.
By Direction of the Secretary:
E. Philip Riggin,
Committee Management Officer.

[FR Doc. 03-25096 Filed 10-2-03; 8:45 am]

BILLING CODE 8320-01-M